DEPARTMENT OF COMMERCE

National Oceanic and Atmospheric Administration

[Docket No.: 000616180-5104-11]

NOAA Climate and Global Change Program for FY 2006

AGENCY: Office of Global Programs (OGP), Oceanic and Atmospheric Research (OAR), National Oceanic and Atmospheric Administration (NOAA), Department of Commerce.

ACTION: Initial notice.

SUMMARY: The Climate and Global Change (C&GC) Program represents a NOAA contribution to evolving national and international programs designed to improve our ability to observe, understand, predict, and respond to changes in the global environment. This program builds on NOAA's mission requirements and long-standing capabilities in global change research and prediction. The NOAA Program is a key contributing element of the U.S. Climate Change Science Program (CCSP), which is coordinated by the interagency Committee on Environmental and Natural Resources. NOAA's program is designed to complement other agencies' contributions to that national effort.

DATES: Submission Dates and Times (for ALL Competitions): Letter of Intent Due Date: May 20, 2005 by 5 p.m. eastern time.

Application Due Date: July 15, 2005 by 5 p.m. eastern time.

Anticipated Award Date: March 14, 2006.

ADDRESSES: Submission: Letters of Intent should be e-mailed to ogpgrants@noaa.gov or may be mailed or faxed to the OGP Grants Manager (see the FOR FURTHER INFORMATION CONTACT).

Proposal applications shall be submitted through Grants.gov APPLY, a date time receipt indication is included and will be the basis of determining timeliness. If the applicant does not have access to electronic submission, please contact the OGP Grants Manager (see the FOR FURTHER INFORMATION CONTACT section below) for instructions on a paper format submission; in such case, it must be mailed to the OGP Grants Manager and received by the deadline. Facsimile transmissions of full proposals will not be accepted. To apply for this NOAA federal funding opportunity, please go to http://www.grants.gov and use the following funding opportunity #OAR-OGP-2006-2000116.

FOR FURTHER INFORMATION CONTACT: Please visit the OGP Web site for further information http://www.ogp.noaa.gov or contact the OGP Grants Manager, Diane Brown, NOAA/OGP, 1100 Wayne Avenue, Suite 1210, Silver Spring, MD 20910-5603, Phone: 301-427-2357, Fax: 301-427-2222, e-mail: ogpgrants@noaa.gov.

SUPPLEMENTARY INFORMATION:

Electronic Access

Applicants should read the full text of the full funding opportunity announcement which can be accessed at the OGP Web site: http://www.ogp.noaa.gov or the central NOAA site: http://www.ofa.noaa.gov/~amd/SOLINDEX.HTML. This announcement will also be available through Grants.gov at http://www.Grants.gov.

Funding Availability

NOAA believes that the C&GC program will benefit significantly from a strong partnership with outside investigators. Please be advised that actual funding levels will depend upon the final FY 2006 budget appropriations. In FY 2004, $10M in first year funding was available for 62 new awards; similar funds and number of awards are anticipated in FY 2005. Total anticipated Federal Funding for FY 2006 is $8M in first year funding for 40-60 awards. Federal Funding for FY 2007 may be used in part to fund some awards submitted under this competition. Current plans assume that 100% of the total resources provided through this announcement will support extramural efforts, particularly those involving the broad academic community. Past or current grantees funded under this announcement are eligible to apply for a new award which builds on previous activities or areas of research not covered in the previous award. Current grantees should not request supplementary funding for ongoing research through this announcement. We anticipate that the annual cost of most funded projects will fall between $50,000 and $200,000 per year. The exact amount of funds that may be awarded will be determined in pre-award negotiations between the applicant and NOAA representatives. Neither NOAA nor the Department of Commerce is responsible for proposal preparation costs if this program is not funded for whatever reason. Publication of this announcement does not oblige NOAA to award any specific project or to obligate any available funds.

Statutory Authority: 49 U.S.C. 44720, 33 U.S.C. 883d, 15 U.S.C. 2904, 15 U.S.C. 2931-2934.

CFDA: No. 11.431, Climate and Atmospheric Research.

Eligibility

Eligible applicants are institutions of higher education, other nonprofits, commercial organizations, international organizations, state, local and Indian tribal governments. Federal agencies or institutions are not eligible to receive Federal assistance under this notice.

Cost Sharing Requirements

Cost Sharing is only required in one program element competition which is the NOAA Climate Transition Program (NCTP) where the Cost Share Percentage must be at least 5% of the total costs. The other seven Competitions have no cost sharing requirement.

Letters of Intent (LOI)

The purpose of the LOI process is to provide information to potential applicants on the relevance of their proposed project to the Climate and Global Change Program and the likelihood of it being funded in advance of preparing a full proposal. While it is in the best interest of the applicants and their institutions to submit an LOI explaining the work they propose to carry out and how much it will cost, it is not a requirement; applicants who do not submit an LOI are allowed to submit a full proposal. A panel of program managers will review each LOI to determine its responsiveness to the program goals as advertised in this notice and will provide an e-mail or letter response.

Evaluation and Selection Procedures

NOAA published its first omnibus notice announcing the availability of grant funds for both projects and fellowships/scholarships/internships for Fiscal Year 2005 in the Federal Register on June 30, 2004 (69 FR 39417). The evaluation criteria and selection procedures contained in the June 30, 2004 omnibus notice are applicable to this solicitation. For a copy of the June 30, 2004 omnibus notice please go to: http://fedgrants.gov/EPSData/DOC/Synopses/1250/11420GRF063004/june%26%23032%3B30%26%23032%3B2004.pdf or contact the OGP Grants Manager (see the FOR FURTHER INFORMATION CONTACT section above).

Limitation of Liability

Funding for the programs listed in this notice are contingent upon the availability of FY 2006 appropriations. In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216—6—TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements: The Department of Commerce Pre-Award Notification Requirements for Grants and Cooperative Agreements

The Department of Commerce Pre-Award Notification Requirements for Grants and Cooperative Agreements contained in the Federal Register notice of December 30, 2004 (69 FR 78389) are applicable to this solicitation.

Paperwork Reduction Act

This document contains collection-of-information requirements subject to the Paperwork Reduction Act (PRA). The use of Standard Forms 424 and 424A, 424B, SF-LLL, and CD-346 have been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Intergovernmental Review

Applications under this program are not subject to Executive Order 12372, “Intergovernmental Review of federal programs.”

Administrative Procedure Act/ Regulatory Flexibility Act

Prior notice and an opportunity for public comments are not required by the Administrative Procedure Act or any other law for this rule concerning grants, benefits, and contracts (5 U.S.C. section 553(a). Because notice and opportunity for comment are not required pursuant to 5 U.S.C. 553 or any other law, the analytical requirements of the Regulatory Flexibility Act (5 U.S.C. section 601 et seq) are inapplicable. Therefore, a regulatory flexibility analysis has not been prepared.

Dated: April 19, 2005.
Louisa Koch,
Deputy Assistant Administrator, OAR, National Oceanic and Atmospheric Administration.

[FR Doc. 05-8112 Filed 4-21-05; 8:45 am]

BILLING CODE 3510-KB-P